DEPARTMENT OF COMMERCE

National Oceanic and Atmospheric Administration

[I.D. 121803B]

Marine Mammals; Permits No. 774-1437, 914-1470, 782-1438 and 782-1446

AGENCY: National Marine Fisheries Service (NMFS), National Oceanic and Atmospheric Administration (NOAA), Commerce.

ACTION: Issuance of permit amendments.

SUMMARY: Notice is hereby given that the following Permits have been amended to extend the expiration dates:

774-1437-06 - The National Marine Fisheries Service, Southwest Fisheries Science Center, P.O. Box 271, La Jolla, CA 92038, (Dr. Robert L. Brownell, Jr., Principal Investigator);

914-1470-02 - University of Southern Mississippi, Department of Biological Sciences, USM Box 5018, Hattiesburg, MS 39401 [Principal Investigator: Dr. Bobby L. Middlebrooks];

782-1438-07 and 782-1446-07 - National Marine Mammal Laboratory, National Marine Fisheries Service, NOAA, 7600 Sand Point Way, NE, BIN C15700, Bldg. 1, Seattle, WA 98115-0070, [Dr. Sue Moore, Principal Investigator (PI)]

ADDRESSES: The amendment and related documents are available for review upon written request or by appointment in the following office(s):

All Permits - Permits, Conservation and Education Division, Office of Protected Resources, NMFS, 1315 East-West Highway, Room 13705, Silver Spring, MD 20910; phone (301)713-2289; fax (301)713-0376;

782-1438-07 and 782-1466-07 - Northwest Region, NMFS, 7600 Sand Point Way NE, BIN C15700, Bldg. 1, Seattle, WA 98115-0700; phone (206)526-6150; fax (206)526-6426;

774-1437 - Southwest Region, NMFS, 501 West Ocean Blvd., Suite 4200, Long Beach, CA 90802-4213; phone (562)980-4001; fax (562)980-4018;

914-1470-02 - Southeast Region, NMFS, 9721 Executive Center Drive North, St. Petersburg, FL 33702-2432; phone (727)570-5301; fax (727)570-5320.

FOR FURTHER INFORMATION CONTACT: Ruth Johnson or Amy Sloan (301)713-2289.

SUPPLEMENTARY INFORMATION: The requested amendments have been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Issuance of this amendment, as required by the ESA was based on a finding that such permit (1) was applied for in good faith, (2) will not operate to the disadvantage of the endangered species which is the subject of this permit, and (3) is consistent with the purposes and policies set forth in section 2 of the ESA.

Dated: December 18, 2003.
Tammy Adams,
Acting Chief, Permits, Conservation and Education Division, Office of Protected Resources, National Marine Fisheries Service.

[FR Doc. 03-31754 Filed 12-23-03; 8:45 am]

BILLING CODE 3510-22-S